DEPARTMENT OF DEFENSE

GENERAL SERVICES ADMINISTRATION

NATIONAL AERONAUTICS AND SPACE ADMINISTRATION

48 CFR Part 25

[FAC 2023-01; FAR Case 2020-014; Item III; Docket No. FAR-2020-0014, Sequence No. 1]

RIN 9000-AO14

Federal Acquisition Regulation: United States-Mexico-Canada Agreement; Correction

AGENCY: Department of Defense (DoD), General Services Administration (GSA), and National Aeronautics and Space Administration (NASA).

ACTION: Final rule; correction.

SUMMARY: DoD, GSA, and NASA published a final rule amending the Federal Acquisition Regulation (FAR) to implement the United States-Mexico-Canada Agreement Implementation Act in the Federal Register of December 1, 2022. This document corrects an erroneous instruction in that rule.

DATES: Effective December 30, 2022.

FOR FURTHER INFORMATION CONTACT: Mr. Michael O. Jackson, Procurement Analyst, at 202-208-4949 or by email at michaelo.jackson@gsa.gov, for clarification of content. For information pertaining to status or publication schedules, contact the Regulatory Secretariat Division at 202-501-4755 or GSARegSec@gsa.gov. Please cite FAC 2023-01, FAR Case 2020-014.

SUPPLEMENTARY INFORMATION: DoD, GSA, and NASA are correcting an amendatory instruction under part 25, section 25.1101.

In FR Doc. 2022-25960 appearing on pages 73890-73894 in the issue of December 1, 2022, make the following correction:

25.1101 [Corrected]

1. On page 73892, starting in the first column, Instruction 12a, paragraph a. for 25.1101, is corrected to read:

“a. Removing “$25,000” from paragraphs (a)(1)(i) introductory text and (b)(1)(i)(A) and adding “$50,000” in its place, wherever it appears;”.

William F. Clark,
Director, Office of Government-Wide Acquisition Policy, Office of Acquisition Policy, Office of Government-Wide Policy.

[FR Doc. 2022-27005 Filed 12-13-22; 8:45 am]

BILLING CODE 6820-EP-P